ENVIRONMENTAL PROTECTION AGENCY

40 CFR Part 52

[EPA-R06-OAR-2005-TX-0002; FRL-9920-33-Region 6]

Approval and Promulgation of Air Quality Implementation Plans; Texas; Repeal of Lead Emission Rules for Stationary Sources in El Paso and Dallas County

AGENCY: Environmental Protection Agency (EPA).

ACTION: Proposed rule.

SUMMARY: The Environmental Protection Agency (EPA) is proposing to approve a revision to the State Implementation Plan (SIP) for Texas which repeals lead emission rules which cover stationary sources in El Paso and Dallas county that are no longer in existence. This action is being taken under section 110(k) and part D of the Clean Air Act.

DATES: Written comments should be received on or before January 12, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Kenneth W. Boyce, (214) 665-7259, boyce.kenneth@epa.gov.

SUPPLEMENTARY INFORMATION: In the final rules section of this Federal Register, EPA is approving the State's SIP submittal repealing lead emission rules which cover stationary sources that are no longer operating in both El Paso County and Dallas County. We are taking this action as a direct final rule without prior proposal because the Agency views this as a noncontroversial action and anticipates no adverse comments. A detailed rationale for the proposed approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register and the electronic docket found in the www.regulations.gov Web site (Docket ID No. EPA-R06-OAR-2005-TX-0002).

Dated: November 19, 2014.
Ron Curry,
Regional Administrator, Region 6.

[FR Doc. 2014-29144 Filed 12-11-14; 8:45 am]

BILLING CODE 6560-50-P